DEPARTMENT OF HOMELAND SECURITY

Coast Guard

33 CFR Part 117

[Docket No. USCG-2013-0530]

Drawbridge Operation Regulations; Piscataqua River, Portsmouth, NH and Kittery, ME

AGENCY: Coast Guard, DHS.

ACTION: Notice of temporary deviation from regulation.

SUMMARY: The Coast Guard is issuing a temporary deviation from the regulations governing the operation of the new US-1 Memorial Bridge across the Piscataqua River, mile 1.9, between Portsmouth, New Hampshire and Kittery, Maine. Under this temporary deviation the bridge may operate on a special opening schedule to facilitate mechanical and structural alignment of the lift span. This deviation is necessary to allow New Hampshire Department of Transportation's contractor sufficient time make final adjustments at the bridge.

DATES: This deviation is effective with actual notice from June 26, 2013, until July 5, 2013. This rule is effective in the Code of Federal Regulations on from July 5, 2013, until July 31, 2013.

ADDRESSES: The docket for this deviation, [USCG-2013-0530] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call John McDonald, Project Officer, First Coast Guard District, at (617) 223-8364. If you have questions on viewing the docket, call Barbara Hairston, Program Manager, Docket Operations, telephone (202) 366-9826.

SUPPLEMENTARY INFORMATION: The new US-1 Memorial Bridge, across the Piscataqua River, mile 1.9, between Portsmouth, New Hampshire and Kittery, Maine has a vertical clearance in the closed position of 21 feet at MHW and 29 feet at MLW. The existing drawbridge operation regulations are listed at 33 CFR 117.531(b).

The waterway supports both commercial and recreational navigation of various vessel sizes.

The owner of the bridge, New Hampshire Department of Transportation, requested a temporary deviation to facilitate necessary alignment and adjustments to the recently installed main lift span.

Under this temporary deviation, in effect June 26, 2013 through July 31, 2013, the new US-1 (formerly Memorial Bridge) shall operate as follows:

Monday through Friday the draw shall open for the passage of vessel traffic at 6:30 a.m., 9 a.m., 12 p.m., 2 p.m., 4:30 p.m. and 7 p.m., daily.

Saturday and Sunday between 6:30 a.m. and 9:30 p.m. the draw shall open on signal once an hour, on the half hour, for the passage of vessel traffic.

The draw may remain in the closed position from 9:30 p.m. on Sunday, June 30 until 2 p.m. Tuesday July 2, 2013.

Except for the closure period above, the draw shall open on signal at all times for commercial deep draft vessels provided at least a 24 hour advance is given by calling the bridge via VHF FM Ch 13 or by telephone at 603-436-2432.

The draw shall remain in the full open position from 6:30 a.m. on July 4, 2013 through 6:30 a.m. on July 5, 2013.

The bridge shall open as soon as possible in an emergency.

In accordance with 33 CFR 117.35(e), the bridge must return to its regular operating schedule immediately at the end of the designated time period. This deviation from the operating regulations is authorized under 33 CFR 117.35.

Dated: June 25, 2013.
Gary Kassof,
Bridge Program Manager, First Coast Guard District.

[FR Doc. 2013-16072 Filed 7-3-13; 8:45 am]

BILLING CODE 9110-04-P